DEPARTMENT OF HEALTH AND HUMAN SERVICES

Health Resources and Services Administration

Agency Information Collection Activities: Proposed Collection; Comment Request

In compliance with requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at 301-443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Women's Physical Activity and Eating Tools Assessment: NEW

The HRSA Office of Women's Health (OWH) developed the Bright Futures for Women's Health and Wellness (BFWHW) Initiative to help expand the scope of women's preventive health activities, particularly related to nutrition and physical activity. Building upon a previous pilot study, an intermediate assessment of the BFWHW health promotion tools and materials related to physical activity and healthy eating will be conducted in order to identify characteristics of both individual and organizational change toward health and wellness associated with the uptake and use of the BFWHW tools. This data collection effort will ensure that the BFWHW tools are disseminated and utilized in the most effective ways, used to inform future BFWHW programming, and added to the literature regarding evidence-based women's health and wellness initiatives.

Towards this end, questionnaires will be used to collect data from adolescent and adult women clients, providers, and administrators of community health provider organizations. Data collected will include process, impact, and outcome measures. Data domains include the implementation and use of the BFWHW tools, including distribution and use; provider training; organizational characteristics related to successful implementation; client and provider awareness; attitudes about the importance of physical activity, nutrition and self-efficacy to take steps to make effective changes; increase in knowledge and intent to change behavior after exposure; and short-term outcomes related to improved preventive healthcare for women. A total of six organizations, which may include HHS Centers of Excellence and Community Centers of Excellence in Women's Health, Federally Qualified Health Centers/Community Health Centers, faith-based organizations, and school-based health clinics, will be selected for the study. Adolescent and adult women patients of various racial and ethnic backgrounds will complete the anonymous questionnaires at these six organizations. The providers at these same sites will also be asked to complete a brief anonymous questionnaire. Telephone interviews will be conducted with an administrator of each of these sites as well. The data collection period is estimated to last four months.

The estimated response burden is as follows:

Estimated Data Collection Burden Hours
Activity | Number of respondents | Hours per response | Responses per respondent | Total burden hours
Client Questionnaire | 3,000 | .42 | 1 | 1,260
Provider Questionnaire | 60 | .33 | 1 | 20
Administrator Telephone Interview | 6 | 1 | 1 | 6
Total | 3,066 |  |  | 1,286

Send comments to Susan G. Queen, Ph.D., HRSA Reports Clearance Officer, Room 10-33, Parklawn Building, 5600 Fishers Lane, Rockville, MD 20857. Written comments should be received within 60 days of this notice.

Dated: March 1, 2006.
Tina M. Cheatham,
Director, Division of Policy Review and Coordination.

[FR Doc. E6-3168 Filed 3-6-06; 8:45 am]

BILLING CODE 4165-15-P